DEPARTMENT OF TRANSPORTATION

Federal Aviation Administration

14 CFR Part 71

[Docket No. FAA-2021-0941; Airspace Docket No. 21-ASO-31]

RIN 2120-AA66

Amendment of Class D, Class E, and Establishment of Class E Airspace; Atlanta, GA Area

AGENCY: Federal Aviation Administration (FAA), DOT.

ACTION: Final rule.

SUMMARY: This action amends Class D airspace, Class E surface airspace, and Class E airspace extending upward from 700 feet above the surface, and establishes Class E Airspace Designated as an Extension to a Class D Surface Area in the Atlanta, GA area. This action replaces the Atlanta Very High Frequency Omnidirectional Range Collocated Tactical Air Navigation (VORTAC) with the term Point of Origin. This action updates several airport names and geographic coordinates. This action also makes an editorial change replacing the term Airport/Facility Directory with the term Chart Supplement in the legal descriptions of associated Class D and E airspaces. Controlled airspace is necessary for the safety and management of instrument flight rules (IFR) operations in the area.

DATES: Effective 0901 UTC, May 19, 2022. The Director of the Federal Register approves this incorporation by reference action under 1 CFR part 51, subject to the annual revision of FAA Order JO 7400.11 and publication of conforming amendments.

ADDRESSES: FAA Order JO 7400.11F, Airspace Designations and Reporting Points, and subsequent amendments can be viewed online at https://www.faa.gov/air_traffic/publications/. For further information, you can contact the Airspace Policy Group, Federal Aviation Administration, 800 Independence Avenue SW, Washington, DC 20591; Telephone: (202) 267-8783. FAA Order JO 7400.11F is also available for inspection at the National Archives and Records Administration (NARA). For information on the availability of FAA Order JO 7400.11F at NARA, email fr.inspection@nara.gov or go to https://www.archives.gov/federal-register/cfr/ibr-locations.html.

FOR FURTHER INFORMATION CONTACT: John Goodson, Operations Support Group, Eastern Service Center, Federal Aviation Administration, 1701 Columbia Avenue, College Park, GA 30337; Telephone (404) 305-5966.

SUPPLEMENTARY INFORMATION:

Authority for This Rulemaking

The FAA's authority to issue rules regarding aviation safety is found in Title 49 of the United States Code. Subtitle I, Section 106, describes the authority of the FAA Administrator. Subtitle VII, Aviation Programs, describes in more detail the scope of the agency's authority. This rulemaking is promulgated under the authority described in Subtitle VII, Part A, Subpart I, Section 40103. Under that section, the FAA is charged with prescribing regulations to assign the use of airspace necessary to ensure the safety of aircraft and the efficient use of airspace. This regulation is within the scope of that authority, as it would amend airspace in the Atlanta, GA area, to support IFR operations in the area.

History

The FAA published a notice of proposed rulemaking in the Federal Register (86 FR 71597, December 17, 2021) for Docket No. FAA-2021-0941 to amend Class D airspace, Class E surface airspace, and Class E airspace extending upward from 700 feet above the surface, and establish Class E Airspace Designated as an Extension to a Class D Surface Area in the Atlanta, GA area.

Interested parties were invited to participate in this rulemaking effort by submitting written comments on the proposal to the FAA. No comments were received.

Class D and Class E airspace designations are published in Paragraphs 5000, 6002, 6004, and 6005, respectively, of FAA Order JO 7400.11F, dated August 10, 2021, and effective September 15, 2021, which is incorporated by reference in 14 CFR 71.1. The Class E airspace listed in this document will be published subsequently in FAA Order JO 7400.11.

Availability and Summary of Documents for Incorporation by Reference

This document amends FAA Order JO 7400.11F, Airspace Designations and Reporting Points, dated August 10, 2021, and effective September 15, 2021. FAA Order JO 7400.11F is publicly available as listed in the ADDRESSES section of this document. FAA Order JO 7400.11F lists Class A, B, C, D, and E airspace areas, air traffic routes, and reporting points.

The Rule

The FAA amends 14 CFR part 71 to amend Class D airspace, Class E surface airspace, and Class E airspace extending upward from 700 feet above the surface, and establish Class E Airspace Designated as an Extension to Class D airspace at the following airports:

The Dekalb-Peachtree Airport Class D airspace is amended by removing unnecessary verbiage from the descriptor header, updating the geographical coordinates of the airport to coincide with the FAA's database, and replacing the outdated term Airport/Facility Directory with the term Chart Supplement in the airport description. In addition, the language in the legal description is amended to include, excluding the airspace that borders the Dobbins Air Reserve Base (ARB) Class D airspace extension to the southeast.

The Fulton County Executive Airport/Charlie Brown Field (formerly Atlanta, Fulton County Airport-Brown Field) Class D airspace is amended by removing unnecessary verbiage from the descriptor header and updating the airport's name. Dobbins ARB Class D airspace is amended by updating the geographical coordinates of the ARB to coincide with the FAA's database.

The Cobb County International Airport/McCollum Field (formerly Cobb County/McCollum Field) Class D airspace is amended by removing unnecessary verbiage from the descriptor header, updating the airport's name, and updating the geographical coordinates of the airport to coincide with the FAA's database. Dobbins ARB (formerly Dobbins ARB/NAS Atlanta) Class D airspace is amended by updating the ARB's name and updating the geographical coordinates of the ARB to coincide with the FAA's database. This action also replaces the outdated term Airport/Facility Directory with the term Chart Supplement in the airport description.

The Dobbins ARB (formerly Dobbins ARB/NAS Atlanta) Class D airspace would be amended by removing unnecessary verbiage from the descriptor header, updating the ARB's name, and updating the geographical coordinates of the ARB to coincide with the FAA's database. Cobb County International Airport/McCollum Field (formerly Cobb County—McCollum Field) Class D airspace is amended by updating the airport's name and updating the geographical coordinates of the airport to coincide with the FAA's database. Fulton County Executive Airport/Charlie Brown Field (formerly Fulton County Airport—Brown Field) Class D airspace is amended by updating the airport's name. This action also replaces the outdated term Airport/Facility Directory with the term Chart Supplement in the airport description.

The Dekalb-Peachtree Airport Class E surface airspace is amended by removing unnecessary verbiage from the descriptor header, updating the geographical coordinates of the airport to coincide with the FAA's database, and removing unnecessary verbiage in the description.

The Dekalb-Peachtree Airport Class E Airspace Designated as an Extension to a Class D Surface Area is established by adding that airspace extending upward from the surface within 1 mile each side of the Dekalb-Peachtree Airport 206° and 021° bearings from the airport, extending from the 4-mile radius of Dekalb-Peachtree Airport to 7.7 miles southwest and northeast of the airport respectively.

The Fulton County Executive Airport/Charlie Brown Field Class E Airspace Designated as an Extension to a Class D Surface Area is established by adding that airspace extending upward from the surface within 1 mile each side of the Fulton County Executive Airport/Charlie Brown Field 260° and 080° bearings from the airport, extending from the 4-mile radius of Fulton County Executive Airport/Charlie Brown Field to 7.2 miles west and east of the airport respectively.

The Cobb County International Airport/McCollum Field Class E Airspace Designated as an Extension to a Class D Surface Area is established by adding that airspace extending upward from the surface from the 4-mile radius of the Cobb County International Airport/McCollum Field to the 8.4-mile radius of the airport; clockwise from the 255° bearing to the 303° bearing from the airport and within 1 mile each side of the Cobb County International Airport/McCollum Field 089° bearing extending from the 4-mile radius to 8.4 miles east of the airport excluding that portion within the Dobbins ARB, Class D airspace area.

The Atlanta, GA Class E airspace extending upward from 700 feet above the surface is amended by updating the name of Hartsfield-Jackson Atlanta International Airport (formerly Atlanta, The William B. Hartsfield Atlanta International Airport) and updating the geographical coordinates of the airport to coincide with the FAA's database. Dobbins ARB Class E airspace extending upward from 700 feet above the surface is amended by updating the ARB's name (formerly Dobbins AFB) and updating the geographical coordinates of the airport to coincide with the FAA's database. Fulton County Executive Airport/Charlie Brown Field Class E airspace extending upward from 700 feet above the surface is amended by updating the airport's name (formerly Fulton County Airport-Brown Field) and increasing the radius to 9.7 miles (formerly 5 miles). Cobb County International Airport/McCollum Field Class E airspace extending upward from 700 feet above the surface is amended by updating the airport's name (formerly Cobb County-McCollum Field), updating the geographical coordinates of the airport to coincide with the FAA's database, and increasing the radius to 10.9 miles (formerly 7 miles). Dekalb-Peachtree Airport Class E airspace extending upward from 700 feet above the surface is amended by updating the geographical coordinates of the airport to coincide with the FAA's database and increasing the radius to 10.2 miles (formerly 7 miles). The Atlanta VORTAC is replaced by the term Point of Origin and the geographical coordinates are updated to coincide with the FAA's database.

Subsequent to publication of the Notice of Proposed Rule Making (NPRM), the FAA found that the updated geographical coordinates of Dobbins ARB created a shift to the southeast of Class D airspace, which created a Class D airspace overlap with the Dobbins ARB's extension to the southeast and Dekalb-Peachtree Airport Class D airspace. Also, subsequent to publication of the NPRM, it was discovered that the name of Cobb County International Airport-McCollum Field required updating. The correct name is Cobb County International Airport/McCollum Field. This action resolves both issues.

Class D and Class E airspace designations are published in Paragraphs 5000, 6002, 6004, and 6005, respectively, of FAA Order JO 7400.11F, dated August 10, 2021, and effective September 15, 2021, which is incorporated by reference in 14 CFR 71.1. The Class D and Class E airspace designations listed in this document will be published subsequently in the Order.

FAA Order JO 7400.11, Airspace Designations and Reporting Points, is published yearly and effective on September 15.

Regulatory Notices and Analyses

The FAA has determined that this regulation only involves an established body of technical regulations for which frequent and routine amendments are necessary to keep them operationally current. It, therefore: (1) Is not a “significant regulatory action” under Executive Order 12866; (2) is not a “significant rule” under DOT Regulatory Policies and Procedures (44 FR 11034; February 26, 1979); and (3) does not warrant preparation of a regulatory evaluation as the anticipated impact is minimal. Since this is a routine matter that only affects air traffic procedures and air navigation, it is certified that this rule, when promulgated, does not have a significant economic impact on a substantial number of small entities under the criteria of the Regulatory Flexibility Act.

Environmental Review

The FAA has determined that this action qualifies for categorical exclusion under the National Environmental Policy Act in accordance with FAA Order JO 1050.1F, “Environmental Impacts: Policies and Procedures,” paragraph 5-6.5a. This airspace action is not expected to cause any potentially significant environmental impacts, and no extraordinary circumstances exist that warrant preparation of an environmental assessment.

Lists of Subjects in 14 CFR Part 71

Airspace, Incorporation by reference, Navigation (air).

Adoption of the Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for part 71 continues to read as follows:

Authority: 49 U.S.C. 106(f), 106(g); 40103, 40113, 40120; E.O. 10854, 24 FR 9565, 3 CFR, 1959-1963 Comp., p. 389.

§ 71.1 [Amended]

2. The incorporation by reference in 14 CFR 71.1 of FAA Order JO 7400.11F, Airspace Designations and Reporting Points, dated August 10, 2021, and effective September 15, 2021, is amended as follows:

Paragraph 5000 Class D Airspace.

* * * * *

ASO GA D Atlanta, GA [Amended]

DeKalb-Peachtree Airport, GA

(Lat. 33°52′34″ N, long. 84°18′07″ W)

Dobbins ARB

(Lat. 33°54′52″ N, long. 84°30′51″ W)

That airspace extending upward from the surface to and including 3,500 feet MSL within a 4-mile radius of DeKalb-Peachtree Airport, excluding the airspace that borders the Dobbins ARB Class D airspace extension to the southeast. This Class D airspace area is effective during the specific dates and times established in advance by a Notice to Airmen. The effective date and time will thereafter be continuously published in the Chart Supplement.

ASO GA D Atlanta, GA [Amended]

Fulton County Executive Airport/Charlie Brown Field, GA

(Lat. 33°46′45″ N, long. 84°31′17″ W)

Dobbins ARB

(Lat. 33°54′52″ N, long. 84°30′51″ W)

That airspace extending upward from the surface to and including 3,300 feet MSL within a 4-mile radius of Fulton County Executive Airport/Charlie Brown Field; excluding the portion north of a line connecting the 2 points of intersection with a 5.5-mile radius circle centered on Dobbins ARB.

ASO GA D Marietta, GA [Amended]

Cobb County International Airport/McCollum Field, GA

(Lat. 34°00′47″ N, long. 84°35′49″ W)

Dobbins ARB

(Lat. 33°54′52″ N, long. 84°30′51″ W)

That airspace extending upward from the surface to and including 3,500 feet MSL within a 4-mile radius of Cobb County International Airport/McCollum Field, GA, excluding that airspace southeast of a line connecting the 2 points of intersection with a 5.5-mile radius centered on Dobbins ARB. This Class D airspace area is effective during the specific dates and times established in advance by a Notice to Airmen. The effective date and time will thereafter be continuously published in the Chart Supplement.

ASO GA D Marietta, GA [Amended]

Dobbins ARB, GA

(Lat. 33°54′52″ N, long. 84°30′51″ W)

Cobb County International Airport/McCollum Field

(Lat. 34°00′47″ N, long. 84°35′49″ W)

Fulton County Executive Airport/Charlie Brown Field

(Lat. 33°46′45″ N, long. 84°31′17″ W)

That airspace extending upward from the surface to and including 3,600 feet MSL within a 5.5-mile radius of Dobbins ARB and within 1.7 miles each side of the 289° bearing and the 109° bearing from the Dobbins ARB, extending from the 5.5-mile radius to 6.9 miles east and west of the airport; excluding that airspace northwest of a line connecting the 2 points of intersection with a 4-mile radius centered on Cobb County International Airport/McCollum Field, and the 5.5-mile radius of Dobbins ARB, and also excluding that airspace south of a line connecting the 2 points of intersection with the 4-mile radius centered on Fulton County Executive Airport/Charlie Brown Field. This Class D airspace area is effective during the specific dates and times established in advance by a Notice to Airmen. The effective date and time will thereafter be continuously published in the Chart Supplement.

Paragraph 6002 Class E Surface Airspace.

* * * * *

ASO GA E2 Atlanta [Amended]

Dekalb-Peachtree Airport, GA

(Lat. 33°52′34″ N, long. 84°18′07″ W)

That airspace within a 4-mile radius of the Dekalb-Peachtree Airport.

Paragraph 6004 Class E Airspace Designated as an Extension to Class D.

* * * * *

ASO GA E4 Atlanta [New]

Dekalb-Peachtree Airport, GA

(Lat. 33°52′34″ N, long. 84°18′07″ W)

That airspace extending upward from the surface within 1 mile each side of the Dekalb-Peachtree Airport 206° and 021° bearings from the airport, extending from the 4-mile radius of Dekalb-Peachtree Airport to 7.7 miles southwest and northeast of the airport.

ASO GA E4 Atlanta, GA [New]

Fulton County Executive Airport/Charlie Brown Field, GA

(Lat. 33°46′45″ N, long. 84°31′17″ W)

That airspace extending upward from the surface within 1 mile each side of the Fulton County Executive Airport/Charlie Brown Field 260° and 080° bearings from the airport, extending from the 4-mile radius of Fulton County Executive Airport/Charlie Brown Field to 7.2 miles west and east of the airport.

ASO GA E4 Marietta, GA [New]

Cobb County International Airport/McCollum Field, GA

(Lat. 34°00′47″ N, long. 84°35′49″ W)

That airspace extending upward from the surface from the 4-mile radius of the Cobb County International Airport/McCollum Field to the 8.4-mile radius of the airport; clockwise from the 255° bearing to the 303° bearing from the airport and within 1 mile each side of the Cobb County International Airport/McCollum Field 089° bearing extending from the 4-mile radius to 8.4 miles east of the airport excluding that portion within the Dobbins ARB, GA Class D airspace area.

Paragraph 6005 Class E Airspace Areas Extending Upward From 700 Feet or More Above the Surface of the Earth.

* * * * *

ASO GA E5 Atlanta, GA [Amended]

Hartsfield-Jackson Atlanta International Airport, GA

(Lat. 33°38′12″ N, long. 84°25′40″ W)

Dobbins ARB

(Lat. 33°54′52″ N, long. 84°30′51″ W)

Fulton County Executive Airport/Charlie Brown Field

(Lat. 33°46′45″ N, long. 84°31′17″ W)

Cobb County International Airport/McCollum Field

(Lat. 34°00′47″ N, long. 84°35′49″ W)

Dekalb-Peachtree Airport

(Lat. 33°52′34″ N, long. 84°18′07″ W)

Point of Origin

(Lat. 33°37′45″ N, long. 84°26′06″ W)

That airspace extending upward from 700 feet above the surface within a 12-mile radius of the Point of Origin and within a 9.7-mile radius of Fulton County Executive Airport/Charlie Brown Field and within an 8-mile radius of Dobbins ARB and within a 10.9-mile radius of Cobb County International Airport/McCollum Field, and within a 10.2-mile radius of Dekalb-Peachtree Airport.

Issued in College Park, Georgia, on March 9, 2022.
Matthew N. Cathcart,
Manager, Operations Support Group, Eastern Service Center, AJV-E2.

[FR Doc. 2022-05279 Filed 3-11-22; 8:45 am]

BILLING CODE 4910-13-P